U.S.-CHINA ECONOMIC AND SECURITY REVIEW COMMISSION

Notice of Open Public Hearing

AGENCY: U.S.-China Economic and Security Review Commission.

ACTION: Notice of open public hearing—January 22, 2014, Washington, DC

SUMMARY: Notice is hereby given of the following hearing of the U.S.-China Economic and Security Review Commission.

Name: Dennis C. Shea, Chairman of the U.S.-China Economic and Security Review Commission. The Commission is mandated by Congress to investigate, assess, and report to Congress annually on “the national security implications of the economic relationship between the United States and the People's Republic of China.” Pursuant to this mandate, the Commission will hold a public hearing in Washington, DC on January 30, 2014, “China's Military Modernization and its Implications for the United States.”

Background: This is the first public hearing the Commission will hold during its 2014 report cycle to collect input from academic, industry, and government experts on national security implications of the U.S. bilateral trade and economic relationship with China. The hearing will examine the inputs to China's military modernization, including financial resources and China's defense industry, and the current and future capabilities of China's military. In addition, this hearing will assess the impact of China's military modernization on the United States and examine U.S. options.

The hearing will be co-chaired by Commissioners James M. Talent and Katherine C. Tobin. Any interested party may file a written statement by January 30, 2014, by mailing to the contact below. A portion of each panel will include a question and answer period between the Commissioners and the witnesses.

Location, Date and Time: Dirksen Senate Office Building, Room 608. Thursday, January 30, 2014, 9:00am—3:00pm Eastern Time. A detailed agenda for the hearing is posted to the Commission's Web site at www.uscc.gov. Also, please check our Web site for possible changes to the hearing schedule. Reservations are not required to attend the hearing.

FOR FURTHER INFORMATION CONTACT: Any member of the public seeking further information concerning the hearing should contact Reed Eckhold, 444 North Capitol Street, NW., Suite 602, Washington DC 20001; phone: 202-624-1496, or via email at reckhold@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: January 22, 2014.
Michael Danis,
Executive Director, U.S.-China Economic and Security Review Commission.

[FR Doc. 2014-01516 Filed 1-27-14; 8:45 am]

BILLING CODE 1137-00-P